DEPARTMENT OF AGRICULTURE

Forest Service

Forestry Research Advisory Council

AGENCY: Forest Service, USDA.

ACTION: Notice of meeting.

SUMMARY: The Forestry Research Advisory Council will meet in Arlington, Virginia, January 12-13, 2006. The purpose of the meeting is to discuss emerging issues in forestry research.

DATES: The meeting will be held January 12-13, 2006. On January 12 the meeting will be from 8:30 a.m. to 5 p.m, and on January 13 from 8:30-noon.

ADDRESSES: The meeting will be held at the Crystal City Marriott near Reagan National Airport, 1999 Jefferson Davis Highway, Arlington, Virginia. Individuals who wish to speak at the meeting or to propose agenda items must send their names and proposals to Daina Apple, Designated Federal Officer, Forestry Research Advisory Council, USDA Forest Service Research and Development, 1400 Independence Ave. SW., Washington DC 20250-1120. Individuals also may fax their names and proposed agenda items to (202) 205-1530.

FOR FURTHER INFORMATION CONTACT: Daina Apple, Forest Service Office of the Deputy Chief for Research and Development, (202) 205-1665.

SUPPLEMENTARY INFORMATION: The meeting is open to the public. Council discussion is limited to Forest Service, Cooperative State Research Education, and Extension Service staff and Council members. However, persons who wish to bring forestry research matters to the attention of the Council may file written statements with the Council staff before or after the meeting.

Dated: December 8, 2005.
Ann M. Bartuska,
Deputy Chief for Research and Development.

[FR Doc. E5-7416 Filed 12-15-05; 8:45 am]

BILLING CODE 3410-11-P